DEPARTMENT OF LABOR

Employment and Training Administration

[TA-W-55,607]

Creo Americas, Inc., U.S. Headquarters, a Subsidiary of Creo, Inc., Billerica, MA; Notice of Revised Determination on Remand

On February 22, 2005, the United States Court of International Trade (USCIT) granted the Department's motion for voluntary remand for further investigation in Former Employees of Creo Americas, Inc. v. U.S. Secretary of Labor (Court No. 05-0021).

The Department's denial of the initial petition for Trade Adjustment Assistance (TAA) was issued on October 20, 2004. The Notice of determination was published in the Federal Register on November 12, 2004 (69 FR 65462).

The negative determination was based on the finding that the predominant cause of separations at the subject facility was the consolidation of administrative and support functions to the subject firm's corporate headquarters in Canada.

Administrative reconsideration was not requested.

By letter dated January 8, 2005, the petitioner filed an appeal with the USCIT, alleging that worker separations were due to the subject firm's shift of production to Canada. In order to carry out the intent of the statute and to safeguard the interests of the petitioners, the Department requested, and was granted, a voluntary remand to further investigate the matter.

During the remand investigation, the Department raised additional questions and obtained detailed supplemental responses from the company. In particular, the new information provided by the company officials revealed that the subject firm is an integrated organization which coordinates all activities at the subject facility and that the subject worker group supported domestic subject firm production, including the subject firm's production facility in Lynwood, Washington (TA-W-55,165; certified on July 12, 2004) during 2003 and January through September 2004.

The Department also investigated whether Creo Americas, Inc., Creo Seattle Division, A Subsidiary of Creo, Inc., Lynwood, Washington was TAA-certifiable during the relevant period. The investigation revealed that the Lynwood, Washington facility experienced a shift of production to Canada during the relevant period and that the shift of production contributed importantly to the employment declines at the subject facility.

Conclusion

After careful review of the newly-obtained facts generated during the remand investigation, I determine that a shift of production contributed importantly to the total or partial separation of workers at the subject facility. In accordance with the provisions of the Act, I make the following certification:

All workers of Creo Americas, Inc., U.S. Headquarters, A Subsidiary of Creo, Inc., Billerica, Massachusetts, who became totally or partially separated from employment on or after September 7, 2003, through two years from the issuance of this determination, are eligible to apply for Trade Adjustment Assistance under Section 223 of the Trade Act of 1974.

Signed at Washington, DC this 5th day of April 2005.
Elliott S. Kushner,
Certifying Officer, Division of Trade Adjustment Assistance.

[FR Doc. E5-1932 Filed 4-22-05; 8:45 am]

BILLING CODE 4510-30-P